DEPARTMENT OF TRANSPORTATION

Federal Aviation Administration

14 CFR Parts 121 and 139

[Docket No. FAA-2000-7479; Amendment Nos. 121-304, 139-26]

RIN 2120-AG96

Certification of Airports; Correction

AGENCY: Federal Aviation Administration (FAA), DOT.

ACTION: Final rule; correction.

SUMMARY: The Federal Aviation Administration (FAA) is making minor technical changes to a final rule published in the Federal Register on February 10, 2004 (69 FR 6380). That final rule revises the airport certification regulations and establishes certification requirements for certain airports.

FOR FURTHER INFORMATION CONTACT: Linda Bruce, Airport Safety and Operations Division, Office of Airport Safety and Standards, 800 Independence Avenue SW., Washington, DC 20591; telephone (202) 267-8553.

DATES: Effective Date: This correction is effective on June 9, 2004.

SUPPLEMENTARY INFORMATION: The FAA published in the Federal Register of February 10, 2004 (69 FR 6380), a final rule revising the airport certification regulation and establishing certification requirements for airports serving scheduled air carrier operations in aircraft designed for more than 9 passenger seats, but less than 31 passenger seats. The final rule also amends the air carrier operation regulations to conform with changes to airport certification requirements. The final rule is necessary to ensure safety in air transportation at all certificated airports and becomes effective June 9, 2004.

The final rule preamble states that air carriers can continue to operate aircraft with more than 9 seats, but less than 31 seats, into airports that are not obligated to obtain the appropriate airport operating certificate until December 9, 2005. However, the rule language is causing the regulated community some uncertainty in interpreting this provision. Therefore, the FAA is clarifying this rule language. This clarification is consistent with the intent of the preamble for the final rule and will remove uncertainty in the regulated community. In addition, there are several minor technical edits to the rule language.

We intend no substantive changes to any of the requirements established by the final rule. These corrections do not impose any additional requirements on operators affected by these regulations.

Justification for Expedited Rulemaking

Section 553 of the Administrative Procedure Act, 5 U.S.C. 553(b)(B), provides that, when an agency for good cause finds that notice and public procedure are impracticable, unnecessary, or contrary to the public interest, the agency may issue a rule without providing notice and an opportunity for public comment. We have determined there is good cause for making today's action final without prior proposal and opportunity for comment because the changes to the rule are minor technical corrections and do not change the requirements of the rule. Thus, notice and public procedure are unnecessary.

Corrections

In final rule FR Doc. 04-2255, published on February 10, 2004 (69 FR 6380), make the following corrections:

1. On page 6380, in column 1 in the heading section, beginning on line four, correct “Amendment Nos. 121-304, 135-94” to read “Amendment Nos. 121-304, 139-26”.

§ 121.590 [Corrected]

2. On page 6424, in column 1, § 121.590(b), correctly designate paragraph (b) as (b)(1).

3. On page 6424, in column 1, § 121.590, add paragraph (b)(2) to read as follows:

* * * * *

(2) Until December 9, 2005, an air carrier and a pilot being used by the air carrier in the conduct of domestic type operations and flag type operations, may operate an airplane designed for more than 9 but less than 31 passenger seats, at a land airport, in any State of the United States, the District of Columbia, or any territory or possession of the United States, that does not hold an airport operating certificate issued under part 139 of this chapter, and that serves small air carrier aircraft (as defined under “Air carrier aircraft” and “Class III airport” in § 139.5 of this Chapter).

* * * * *

§ 139.203 [Corrected]

* * * * *

4. On page 6428, § 139.203(b), in item 23 of the table, in the fifth column, add an “X” under Class IV.

§ 139.303 [Corrected]

5. On page 6429, in columns 1 and 2, § 139.303(e), correctly designate subparagraphs (i) through (vi) as (1) through (6).

§ 139.305 [Corrected]

6. On page 6429, in column 2, § 139.305, correct the text of paragraph(a)(3) to read as follows:

* * * * *

(3) The pavement must be free of cracks and surface variations that could impair directional control of air carrier aircraft, including any pavement crack or surface deterioration that produces loose aggregate or other contaminants.

* * * * *

§ 139.315 [Corrected]

7. On page 6431, in column 1, § 139.315(e), correctly designate subparagraphs (i) through (iv) as (1) through (4).

§ 139.317 [Corrected]

8. On page 6431, in column 3, on line six of § 139.317(k), add the date, “June 9, 2004”, at the end of the sentence after the word “after”.

§ 139.319 [Corrected]

9. On page 6432, in column 1, on line three of § 139.319(g)(3), correct the reference “(h)(1)” to read “(g)(1)”.

Issued in Washington, DC, on, May 27, 2004.
Donald P. Byrne,
Assistant Chief Counsel for Regulations.

[FR Doc. 04-12615 Filed 6-1-04; 12:58 pm]

BILLING CODE 4910-13-P